Title 3—

The President

Proclamation 8673 of May 12, 2011

Small Business Week, 2011

By the President of the United States of America

A Proclamation

Our country started as an idea, and it took hard-working, dedicated, and visionary patriots to make it a reality. Successful businesses start much the same way—as ideas realized by entrepreneurs who dream of a better world and work until they see it through. From the family businesses that anchor Main Street to the high-tech startups that keep America on the cutting edge, small businesses are the backbone of our economy and the cornerstones of America’s promise.

Throughout our economic recovery, persevering small businesses have helped put our country back on track. Countless new and saved jobs have come from small businesses who took advantage of tax relief, access to capital, and other tools in the Recovery Act, the Small Business Jobs Act, and other initiatives launched by my Administration to put Americans back to work. To ensure the stability of our recovery, we must continue to provide new opportunities for small business owners and the next generation of entrepreneurs, who will help us out-innovate our global competitors to win the future.

To support high-growth businesses, my Administration has launched Startup America, an initiative that will strengthen access to capital and mentoring while reducing barriers to growth for small businesses. Entrepreneurship is essential to the strength and resilience of our economy and our way of life. Startup America will give entrepreneurs the tools they need to build their business into the next great American company. To encourage innovation, we released the Strategy for American Innovation, a report outlining my Administration’s plan to harness ingenuity. This means investing in the building blocks of innovation, like education and infrastructure, while promoting market-based growth through tax credits and effective intellectual property laws.

The National Export Initiative is working to open markets to American businesses and support small exporters, who increase American competitiveness abroad and create good jobs here at home. We continue to create opportunities for businesses in underserved communities through new lending initiatives, expanded access to counseling, and technical assistance. We are also working to provide small businesses more opportunities to compete for Federal contracts. This gives Federal agencies access to some of our country’s best products and services while helping these businesses grow and employ community members. Through these and other initiatives, we are supporting the entrepreneurs and small businesses that provide work for half of American workers and create two out of every three new private sector jobs.

Small businesses embody the promise of America: that if you have a good idea and are willing to work hard enough, you can succeed in our country. This week, we honor and celebrate the individuals whose inspiration and efforts keep America strong.

NOW, THEREFORE, I, BARACK OBAMA, President of the United States of America, by virtue of the authority vested in me by the Constitution and the laws of the United States, do hereby proclaim May 15 through May 21, 2011, as Small Business Week. I call upon all Americans to recognize the contributions of small businesses to the competitiveness of the American economy with appropriate programs and activities.

IN WITNESS WHEREOF, I have hereunto set my hand this twelfth day of May, in the year of our Lord two thousand eleven, and of the Independence of the United States of America the two hundred and thirty-fifth.

[FR Doc. 2011-12307

Filed 5-17-11; 8:45 am]

Billing code 3195-W1-P